DEPARTMENT OF COMMERCE

National Oceanic and Atmospheric Administration

[I.D. 070306B]

Marine Fisheries Advisory Committee; Public Meetings

AGENCY: National Marine Fisheries Service (NMFS), National Oceanic and Atmospheric Administration (NOAA), Commerce.

ACTION: Notice of open public meetings.

SUMMARY: Notice is hereby given of meetings of the Marine Fisheries Advisory Committee (MAFAC). This will be the second of two meetings held in fiscal year 2006 to review and advise NOAA on management policies for living marine resources. Agenda topics are provided under the SUPPLEMENTARY INFORMATION section of this notice. All full Committee sessions will be open to the public.

DATES: The meetings will be held July 25, 2006, from 8 a.m. to 5 p.m. and July 27, 2006, from 1 p.m. to 5 p.m.

ADDRESSES: The meetings will be held at the Courtyard Marriott Seattle Downtown/Lake Union, 925 Westlake Avenue North, Seattle, WA 98109, (206) 213-0100.

Requests for special accommodations may be directed to MAFAC, National Marine Fisheries Service, 1315 East-West Highway #9508, Silver Spring, MD 20910.

FOR FURTHER INFORMATION CONTACT: Laurel Bryant, MAFAC Executive Director; telephone: (301) 713-2379 x171.

SUPPLEMENTARY INFORMATION: As required by section 10(a)(2) of the Federal Advisory Committee Act, 5 U.S.C. App. 2, notice is hereby given of meetings of MAFAC. MAFAC was established by the Secretary of Commerce (Secretary) on February 17, 1971, to advise the Secretary on all living marine resource matters that are the responsibility of the Department of Commerce. This committee advises and reviews the adequacy of living marine resource policies and programs to meet the needs of commercial and recreational fisheries, and environmental, state, consumer, academic, tribal, governmental and other national interests.

Matters to be Considered

July 25, 2006

The meeting will begin with opening remarks and introductions from Dr. William T. Hogarth, Assistant Administrator for Fisheries and representatives of the Northwest Regional Office and Fisheries Science Center. The Committee will receive a review of the inaugural Sustainable Fisheries Leadership Awards held in June 2006, which the Committee helped to establish, and receive a presentation and request for input on a long term seafood information and outreach product the agency intends to launch on the internet within the next year. Next, the committee will receive an update on offshore aquaculture legislation, receive a presentation of aquaculture research occurring within the region, and discuss the overall direction and future of domestic and global aquaculture.

The afternoon will include discussing the scope, focus and strategy for producing a public document intended to outline the roadmap of issues to be addressed in fisheries in the next 20 years.

July 26, 2006

No full Committee meeting will take place. Subcommittees will meet 8 a.m. to 12 p.m. The full Committee will then visit a regional research facility in Manchester, WA.

July 27, 2006

The Subcommittees will meet from 8 a.m. to 12 p.m. The full committee will reconvene from 1 p.m. to 5 p.m. to receive, discuss, and take final actions and votes.

Special Accommodations

These meetings are physically accessible to people with disabilities. Requests for sign language interpretation or other auxiliary aids should be directed to Laurel Bryant, MAFAC Executive Director; telephone: (301) 713-2379 x171.

Dated: July 11, 2006.
William T. Hogarth,
Assistant Administrator for Fisheries, National Marine Fisheries Service.

[FR Doc. E6-11271 Filed 7-14-06; 8:45 am]

BILLING CODE 3510-22-S